DEPARTMENT OF DEFENSE

Office of the Secretary

[Docket ID: DoD-2008-OS-0139]

Privacy Act of 1974; System of Records

AGENCY: Office of the Secretary, DoD.

ACTION: Notice to amend a system of records notice.

SUMMARY: The Office of the Secretary of Defense is amending a system of records notice in its existing inventory of record systems subject to the Privacy Act of 1974, (5 U.S.C. 552a), as amended.

DATES: This proposed action will be effective without further notice on December 12, 2008 unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-2386.

SUPPLEMENTARY INFORMATION: The Office of the Secretary of Defense systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: November 4, 2008.
Morgan E. Frazier,
Alternate OSD Federal Register Liaison Officer, Department of Defense.

DPR 36

System name:

Defense Integrated Military Human Resources System (DIMHRS) Records (September 30, 2008, 73 FR 56807).

Changes:

* * * * *

Categories of records in the system:

Delete “mother's maiden name” from first paragraph.

* * * * *

DPR 36

System name:

Defense Integrated Military Human Resources System (DIMHRS) Records.

System location:

Primary Location Corporate Data Center, Defense Enterprise Computing Center Ogden, 7879 Wardleigh Road, Hill AFB, UT 84056-5996.

Decentralized segments are located at Department of Defense (DoD) activities worldwide. Official mailing addresses can be obtained from the appropriate Service point of contact found in the “Notification procedure” or “Record Access” sections of this proposed system of records notice.

Categories of individuals covered by the system:

Members of the United States Army, Navy, Air Force and Marines to include: Active Duty, National Guard, Reserve, Retired and former military personnel, and Coast Guard personnel when operating as a military service under the Department of the Navy.

Categories of records in the system:

Personal Information: Individual's name, rank/grade, address, date of birth, eye color, height, weight, place of birth, Social Security Number (SSN), and similar personal identifiers for beneficiary/dependant purposes; driver's license number, security level, office location, assigned user name and security questions, local and home of record addresses, phone numbers and emergency contact information.

Personnel Information: performance plans, evaluation and review history; enrollment, participation, status and outcome information for Personnel Programs; service qualification and performance measures; types of orders; accomplishments, skills and competencies; career preferences; contract information related to Oath of Office, enlistment and re-enlistment; retirement and separation information; retirement points including information necessary to determine retirement pay; benefits eligibility, enrollment, designations and status information; Uniform Code of Military Justice (UCMJ) Actions summarizing court martial, non-judicial punishments, and similar or related documents. Circumstances of an incident the member was involved in and whether he or she is in an injured, wounded, seriously wounded, or ill duty status from the incident.

Duty related information: duty station, employment and job related information and history; deployment information; work title, work address and related work contact information (e.g., phone and fax numbers, E-mail address), supervisor's name and related contact information.

Education and training: high school graduation date and location; highest level of education; other education, training and school information including courses and training completion.

Pay Entitlement and Allowances: pay information including earnings and allowances, additional pay (bonuses, special, and incentive pays); payroll computation, balances and history with associated accounting elements; leave balances and leave history.

Deductions from Pay: tax information (federal, state and local) based on withholding options, payroll deductions, garnishments; savings bond information including designated owner, deductions, and purchase dates; thrift savings plan participation.

Other pay-related information: direct deposit information including financial institution name, routing number and account information.

Authority for maintenance of the system:

10 U.S.C. 113 note, Secretary of Defense; 10 U.S.C. 3013, Secretary of the Army; 10 U.S.C. 5013, Secretary of the Navy; 10 U.S.C. 8013, Secretary of the Air Force; 14 U.S.C. 5 and 92, Coast Guard; 37 U.S.C., Pay and Allowances of the Uniformed Services; and E.O. 9397 (SSN).

Purpose(s):

Provide a fully integrated military personnel and pay capability for all Components of the Military Services of the Department of Defense. Additionally, DIMHRS will provide the Military Services and their components the capability to effectively manage their members during peacetime, war, and through mobilization and demobilization. In addition, it will be used as a management tool for decisions made within the Department of Defense.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of the Department of Health and Human Services, and Selective Service Administration in the performance of their official duties related to eligibility, notification, and assistance in obtaining benefits for which members, former members or retiree may be eligible.

To officials and employees of the Department of Veterans Affairs in the performance of their official duties related to approved research projects, and for processing and adjudicating claims, determining eligibility, notification, and assistance in obtaining benefits and medical care for which members, former members, retiree and family members/annuitants may be eligible.

To the Department of Veterans Affairs to provide information regarding a servicemember's record or family member for the purposes of supporting eligibility processing for the Servicemember's Group Life Insurance program.

To state and local agencies in the performance of their official duties related to verification of status for determination of eligibility for Veterans Bonuses and other benefits and entitlements.

To officials and employees of the American Red Cross in the performance of their duties relating to the assistance of the members and their dependents and relatives, or related to assistance previously furnished such individuals, without regard to whether the individual assisted or his/her sponsor continues to be a member of the Military Service. Access will be limited to those portions of the member's record required to effectively assist the member.

To the U.S. Citizenship and Immigration Services for use in making alien admission and naturalization inquiries.

To the Social Security Administration to obtain or verify Social Security Numbers or to substantiate applicant's credit for social security compensation.

To officials and employees of the Office of the Sergeant at Arms of the United States House of Representatives in the performance of their official duties related to the verification of the active duty military service of Members of Congress. Access is limited to those portions of the member's record required to verify time in service.

To the widow or widower, dependent, or next-of-kin of deceased members to settle the affairs of the deceased member. The categories of individuals listed will have to verify relationship by providing a birth certificate, marriage license, death certificate, or court document as requested/required to prove they are who they say they are.

To governmental agencies for the conduct of computer matching agreements for the purpose(s) of determining eligibility for Federal benefit programs, to determine compliance with benefit program requirements and to recover improper payments or delinquent debts under a federal benefit program.

To officials of the U.S. Coast Guard (USCG) for the purpose of creating service records for current USCG members that had prior Military Service.

To Federal and state licensing authorities and civilian certification boards, committees and/or ecclesiastical endorsing organizations for the purposes of professional credentialing (licensing and certification) of lawyers, chaplains and health professionals.

To Federal agencies such as the National Academy of Sciences, for the purposes of conducting personnel and/or health-related research in the interest of the Federal government and the public. When not considered mandatory, the names and other identifying data will be eliminated from records used for such research studies.

To the officials and employees of the Department of Labor in the performance of their official duties related to employment and compensation.

The “Blanket Routine Uses” set forth at the beginning of DoD's compilation of System of Records Notices apply to this system.

Note: Disclosure to consumer reporting agencies: Disclosures pursuant to 5 U.S.C. 552a(b)(12) may be made from this system to ‘consumer reporting agencies' as defined in the Fair Credit Reporting Act (14 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Electronic storage media.

Retrievability:

Individual's name, Social Security Number (SSN), and date of birth.

Safeguards:

DIMHRS automated data is maintained in controlled government facilities. Physical entry is restricted by the use of locks, guards, and is accessible only to authorized personnel with a need-to-know. Access to personal data is limited to person(s) responsible for maintaining and servicing DIMHRS data in performance of their official duties and who are properly trained, screened and cleared for a need-to-know. Access to personal data is further restricted by the use of Common Access Card (CAC) and/or strong password, which are changed periodically according to DoD security policy.

Retention and disposal:

Disposition pending. Until the National Archives and Records Administration has approved the retention and disposal of these records, treat them as permanent.

System manager(s) and address:

Director, Office of the Under Secretary of Defense, Personnel and Readiness, Information Management, 4040 Fairfax Drive, Arlington, VA 22203-1613.

Notification procedure:

Individuals seeking to determine whether information about themselves is contained in this system of records should address written inquiries to the appropriate address below.

Navy Records—Navy Personnel Command, Records Management and Policy, PERS 312E, 5720 Integrity Drive, Millington, TN 38055-3120.

Marine Corps Records—Commandant of the Marine Corps, Code MMSB-12, 2008 Elliott Road, Quantico, VA 22134-5030.

Army Records—U.S. Army Human Resources Command, Attn: AHRC-PAV-V, 1 Reserve Way, St. Louis, MO 63132-5200.

Air Force Records—Air Force Personnel Center, HQ AFPC/DPSSRP, 550 C Street West, Suite 19, Randolph AFB, TX 78150-4721.

Coast Guard Records—Commander, CGPC-adm-3, USCG Personnel Command, 4200 Wilson Blvd., Suite 1100, Arlington, VA 22203-1804.

Requests should contain individual's legal name, Social Security Number (SSN), and date of birth.

Record access procedures:

Individuals seeking written access to information about themselves contained in this system of records should address written inquiries to the appropriate address below.

Navy Records—Navy Personnel Command, Records Management and Policy, PERS 312E, 5720 Integrity Drive, Millington, TN 38055-3120.

Marine Corps Records—Commandant of the Marine Corps, Code MMSB-12, 2008 Elliott Road, Quantico, VA 22134-5030.

Army Records—U.S. Army Human Resources Command, Attn: AHRC-PAV-V, 1 Reserve Way, St. Louis, MO 63132-5200.

Air Force Records—Air Force Personnel Center, HQ AFPC/DPSSRP, 550 C Street West, Suite 19, Randolph AFB, TX 78150-4721.

Coast Guard Records—Commander, CGPC-adm-3, USCG Personnel Command, 4200 Wilson Blvd., Suite 1100, Arlington, VA 22203-1804.

Requests should contain individual's legal name, Social Security Number (SSN), and date of birth.

Contesting record procedures:

The OSD rules for accessing information about themselves and for contesting contents and appealing initial agency determinations are published in Administrative Instruction 81; 32 CFR part 311; or may be obtained from the Privacy Act Office, Office of Freedom of Information, Washington Headquarters Services, 1155 Defense Pentagon, Washington, DC 20301-1155.

Record source categories:

Data contained in this system is collected from the individual and DoD Military Services Human Resource Offices.

Exemptions claimed for the system:

None.

[FR Doc. E8-26745 Filed 11-10-08; 8:45 am]

BILLING CODE 5001-06-P